NATIONAL SCIENCE FOUNDATION

Sunshine Act Meeting; National Science Board

The National Science Board, pursuant to NSF regulations (45 CFR part 614), the National Science Foundation Act, as amended (42 U.S.C. 1862n-5), and the Government in the Sunshine Act (5 U.S.C. 552b), hereby gives notice of the scheduling of a teleconference for the transaction of National Science Board business, as follows:

Time and Date: Open meeting of the Executive Committee of the National Science Board, to be held Monday, July 17, 2017, from 11:00 a.m. to 12:00 p.m. EDT.

Place: This meeting will be held by teleconference at the National Science Foundation, 4201 Wilson Blvd., Arlington, VA 22230.

Status: Open.

Matters to be Considered: Executive Committee Chair's opening remarks; approval of Executive Committee minutes, and discussion of issues and topics for the agendas of the NSB meetings scheduled for August 15-16, 2017.

Contact Person for More Information: Point of contact for this meeting is: James Hamos, 4201 Wilson Blvd., Arlington, VA 22230. Telephone: (703) 292-8000.

You may find meeting information and updates (time, place, subject matter or status of meeting) at http://www.nsf.gov/nsb/notices/.

SUPPLEMENTARY INFORMATION: An audio link will be available for the public. Members of the public must contact the Board Office to request the public audio link by sending an email to nationalsciencebrd@nsf.gov at least 24 hours prior to the teleconference.

Dated: July 10, 2017.
Ann Bushmiller,
Senior Counsel to the National Science Board.

[FR Doc. 2017-14779 Filed 7-11-17; 11:15 am]

BILLING CODE 7555-01-P